DEPARTMENT OF TRANSPORTATION

Surface Transportation Board

[STB Finance Docket No. 35136]

Burlington Shortline Railroad, Inc., d/b/a Burlington Junction Railway—Lease and Operation Exemption—BNSF Railway Company

Burlington Shortline Railroad, Inc., d/b/a Burlington Junction Railway (BJR), a Class III rail carrier, has filed a verified notice of exemption under 49 CFR 1150.41 to lease and to operate, pursuant to an agreement with BNSF Railway Company (BNSF), approximately 2.5 miles of BNSF railroad properties consisting of certain trackage, real property, and railroad operating rights located at Montgomery, IL. The rail properties being leased consist of land and tracks owned by BNSF adjacent to and within the Montgomery Industrial Park, located between milepost 39.40 and milepost 40.50 on BNSF's east-west Main 1, Track 3998, and Main 2, track 3999, but excluding BNSF's Main 1, Main 2, and the Old North Main Track 3900. In particular, the lease agreement pertains to track numbers 3901, 3902, 3903, 3904, the segment of track 3930 between tracks 3900 and 3932, and the segment of track 3930 between the northern terminus of track 3931 and track 3942.¹

¹ BJR originally filed a notice of exemption to acquire and operate the subject rail properties in Burlington Shortline Railroad, Inc., d/b/a Burlington Junction Railway Company—Acquisition and Operation Exemption—BNSF Railway Company, STB Finance Docket No. 35121 (STB served Apr. 3, 2008, and published at 73 FR 18322). Ozinga Bros., Inc., filed a petition to reject or stay the exemption, and the Board issued a housekeeping stay on April 16, 2008, in that docket to allow time to consider any replies and to make an informed decision. BJR requested permission to withdraw that notice on April 21, 2008, and concurrently filed the instant notice clarifying that the acquisition transaction was by lease rather than purchase and explaining in more detail the involved rail property and the proposed transaction. By decision served on April 29, 2008, the Board granted BJR's withdrawal request, discontinued the proceeding in STB Finance Docket No. 35121, and vacated the stay in that proceeding as moot.

BNSF is granting to BJR incidental trackage rights for interchange purposes over track 3900 (the Old North Main) between track numbers 3904 and 3930.

BNSF is also assigning to BJR its contractual rights to operate over certain private industrial track (not owned by BNSF) used to serve shippers in the area, pertaining to track numbers 3905, 3906, 3907, 3908, 3909, 3914, 3915, 3920, 3931, 3932, 3933, 3940, 3941, 3942, 3943, 3944, 9916, 9976, and the portions of track 3930 not owned by BNSF.

BJR, in turn, is granting BNSF interchange rights for the use of BJR's leased yard tracks at Montgomery, IL, for the sole purpose of interchanging traffic between the parties on track numbers 3901 and 3902.

The earliest this exemption can be consummated is May 21, 2008, the effective date of the exemption (30 days after the exemption is filed).

BJR certifies that its projected annual revenues as a result of this transaction will not exceed those that qualify it as a Class III rail carrier and will not exceed $5 million.

Pursuant to the Consolidated Appropriations Act, 2008, Public Law 110-161, section 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions to stay must be filed by no later than May 14, 2008 (at least 7 days before the exemption becomes effective).

An original and 10 copies of all pleadings, referring to STB Finance Docket No. 35136, must be filed with the Surface Transportation Board, 395 E Street, SW., Washington, DC 20423-0001. In addition, a copy must be served on John D. Heffner, John D. Heffner, PLLC, 1750 K Street, NW., Suite 350, Washington, DC 20006.

Board decisions and notices are available on our Web site at http://www.stb.dot.gov.

Decided: April 29, 2008.
By the Board, David M. Konschnik, Director, Office of Proceedings.
Anne K. Quinlan,
Acting Secretary.

[FR Doc. E8-9698 Filed 5-2-08; 8:45 am]

BILLING CODE 4915-01-P